DEPARTMENT OF HEALTH AND HUMAN SERVICES

Agency for Healthcare Research and Quality

Solicitation for Nominations for Membership To Serve on Initial Review Group for Scientific Peer Review

AGENCY: Agency for Healthcare Research and Quality (AHRQ), HHS.

ACTION: Request for nominations for membership to serve on initial review group for scientific peer review.

SUMMARY: This is to invite the public to nominate members to the Agency for Healthcare Research and Quality (AHRQ) Initial Review Group (IRG) responsible for the scientific peer review of AHRQ grant applications. The AHRQ IRG conducts scientific and technical review for health services research grant applications and is comprised of five subcommittees or study sections, each with a particular research focus. AHRQ is seeking nominations for scientific reviewers in specific competency domains to evaluate grant applications.

DATES: Nominations should be received on or before June 1, 2021.

ADDRESSES: Nominations should be submitted by email to: Priti Mehrotra, M.Sc., Ph.D., Director, Division of Scientific Review, AHRQ. Email: priti.mehrotra@ahrq.hhs.gov.

FOR FURTHER INFORMATION CONTACT: Priti Mehrotra, M.Sc., Ph.D., AHRQ, (301) 427-1556 or by email at priti.mehrotra@ahrq.hhs.gov.

SUPPLEMENTARY INFORMATION: This is to invite the public to nominate members to the Agency for Healthcare Research and Quality (AHRQ) Initial Review Group (IRG) responsible for the scientific peer review of AHRQ grant applications. AHRQ is required to conduct appropriate scientific peer review of grant applications pursuant to 42 U.S.C. 299c-1. The AHRQ IRG conducts scientific and technical review for health services research grant applications and is comprised of five subcommittees or study sections, each with a particular research focus. AHRQ is seeking nominations for scientific reviewers in specific competency domains to evaluate grant applications.

AHRQ's mission is to produce evidence to make health care safer, higher quality, more accessible, equitable, and affordable, and to work within the U.S. Department of Health and Human Services (DHHS) and with other partners to make sure that the evidence is understood and used. AHRQ works to fulfill its mission by supporting health services research, evaluation, demonstration, dissemination, and training grants.

The peer review of AHRQ grant applications involves an assessment conducted by panels of qualified experts established according to scientific disciplines or medical specialty areas. Members of the IRG will be selected based upon their training and experience in relevant scientific and technical fields, taking in account, among other factors: (1) The level of formal education and pertinent expertise and experience; (2) extent of engagement in relevant research; (3) extent of professional recognition; (4) need for specialization in relevant field; and (5) appropriate representation based on gender, racial/ethnic origin, and geography. See 42 CFR 67.15(a)(2).

The IRG is comprised of five subcommittees, or study sections, each with a particular emphasis around which peer reviewer expertise is assembled. AHRQ seeks nominations for each of the subcommittee competency domains described below:

Health Care Effectiveness and Outcomes Research: End-stage renal disease; cardiovascular disease; pediatrics; pharmacologist in opioid management; biostatisticians in health services research; health disparities and social determinants of health.

Healthcare Safety and Quality Improvement Research: Pharmacists with expertise in informatics; infectious diseases specialists; geriatricians; surgeons with a specialty in diagnostic error; health disparities and social determinants of health.

Healthcare Information Technology Research: Biomedical and consumer health informatics; family medicine; health care data analysis; health information technology; health services research in patient-oriented research; electronic health record and data for research; population-based studies in medicine; epidemiology; telehealth/telemedicine; emergency medicine; insurance benefit design; chronic condition care; natural language processing and machine learning; social networking and its determinants of health; health disparities and social determinants of health.

Healthcare Systems and Value Research: Health statistics; health care outcome research; evaluation and survey methods; health system and service research; health care policy research; health economics research; large database analysis; private health insurance/Medicaid and Medicare; learning laboratory development; health disparities and social determinants of health.

Health Care Research Training: Clinician with knowledge of health policy; Medicare and Medicaid; addiction medicine; health disparities and social determinants of health.

Additional study section descriptive information can be found here:

Study Section Rosters: http://www.ahrq.gov/funding/process/study-section/peerrev.

Study Section Descriptions: http://www.ahrq.gov/funding/process/study-section/peerdesc.

Study Section Research Foci: http://www.ahrq.gov/funding/process/study-section/resfoci.

Interested individuals may nominate themselves, and organizations and individuals may nominate one or more qualified persons for study section membership. A diversity of perspectives is valuable to AHRQ's work. To help obtain a diversity of perspectives among nominees, AHRQ encourages nominations of women and members of minority populations. AHRQ also seeks broad geographic representation. All nominations must be submitted electronically, and should include:

1. A copy of the nominee's current curriculum vitae and contact information, including mailing address, phone number, and email address.

2. Preferred study section assignment.

Dated: May 5, 2021.
Marquita Cullom,
Associate Director.

[FR Doc. 2021-09879 Filed 5-10-21; 8:45 am]

BILLING CODE 4160-90-P